DEPARTMENT OF TRANSPORTATION

Federal Aviation Administration

14 CFR Part 71

[Docket FAA No. FAA-2006-26364; Airspace Docket No. 06-ANM-12]

Establishment of Class E Airspace; Beaver, UT

AGENCY: Federal Aviation Administration (FAA), DOT.

ACTION: Final rule; correction.

SUMMARY: This action corrects a final rule published in the Federal Register August 10, 2007 (72 FR 44955), Airspace Docket No. 06-ANM-12, FAA Docket No. FAA-2006-26364. In that rule, an error was made in the legal description for Beaver, UT. Specifically, the longitude referencing V-293 stated “* * * long. 133°00′00″ W.” instead of “* * * long.113°30′00″ W.” This action corrects that error.

DATES: Effective Date: 0901 UTC, October 25, 2007. The Director of the Federal Register approves this incorporation by reference action under 1 CFR part 51, subject to the annual revision of FAA Order 7400.9 and publication of conforming amendments.

FOR FURTHER INFORMATION CONTACT: Eldon Taylor, Federal Aviation Administration, System Support Group, Western Service Area, 1601 Lind Avenue, SW., Renton, WA 98057; telephone (425) 917-6726.

SUPPLEMENTARY INFORMATION:

History

On August 10, 2007, a final rule for Airspace Docket No. 06-ANM-12, FAA Docket No. FAA-2006-26364 was published in the Federal Register (72 FR 44955), establishing Class E airspace in Beaver, UT. The longitude referencing V-293 was incorrect in that the longitude stated “* * * long. 133°00′00″ W.” instead of “* * * long.113°30′00″ W.” This action corrects that error.

Correction to Final Rule

Accordingly, pursuant to the authority delegated to me, the legal description as published in the Federal Register on August 10, 2007 (72 FR 44955), Airspace Docket No. 06-ANM-12, FAA Docket No. FAA-2006-26364, and incorporated by reference in 14 CFR 71.1, is corrected as follows:

§ 71.1 [Amended]

On page 44956, correct the legal description for Beaver, UT, to read as follows:

Paragraph 6005—Class E airspace areas extending upward from 700 feet or more above the surface of the earth.

* * * * *

ANM UT E5 Beaver, UT [Corrected]

Beaver Municipal Airport, UT (lat. 38°13′51″ N., long. 112°40′31″ W.)

Bryce Canyon VORTAC (lat. 37°41′21″ N., long. 112°18′14″ W.)

That airspace extending upward from 700 feet above the surface within a 5.0-mile radius of Beaver Municipal Airport and within 3 miles each side of the 261° bearing from the Airport extending from the 5.0-mile radius to 14.0 miles west of the Airport, and that airspace extending upward from 1,200 feet above the surface beginning at lat. 38°19′24″ N., long. 113°30′00″ W.; thence east on V-244 to lat. 38°22′22″ N., long. 112°37′47″ W.; thence south on V-257 to BRYCE CANYON VORTAC; thence west on V-293 to lat. 37°56′30″ N., long. 113°30′00″ W.; to point of beginning.

* * * * *

Issued in Seattle, Washington, on October 5, 2007.
Clark Desing,
Manager, System Support Group, Western Service Center.

[FR Doc. E7-20389 Filed 10-17-07; 8:45 am]

BILLING CODE 4910-13-P